DEPARTMENT OF COMMERCE

International Trade Administration

[C-570-043]

Stainless Steel Sheet and Strip From the People's Republic of China: Rescission of Countervailing Duty Administrative Review; 2016-2017

AGENCY: Enforcement and Compliance, International Trade Administration, Department of Commerce.

SUMMARY: The Department of Commerce (Commerce) is rescinding the administrative review of the countervailing duty (CVD) order on stainless steel sheet and strip (SSSS) from the People's Republic of China (China) for the period July 18, 2016, through December 31, 2017.

DATES: Applicable December 17, 2018.

FOR FURTHER INFORMATION CONTACT: Charlotte Baskin-Gerwitz, Enforcement and Compliance, AD/CVD Operations, Office VII, International Trade Administration, U.S. Department of Commerce, 1401 Constitution Avenue NW, Washington, DC 20230; telephone: (202) 482-4880.

Background

On April 2, 2018, Commerce published a notice of opportunity to request an administrative review of the CVD order on SSSS from China for the period July 18, 2016, through December 31, 2017.¹ On April 30, 2018, Hans-Mill Corporation and C.Y. Housewares (Dongguan) Co., Ltd. (collectively, C.Y. Housewares), requested an administrative review of its exports of subject merchandise to the United States.² On June 6, 2018, in accordance with section 751(a) the Tariff Act of 1930, as amended (the Act), and 19 CFR 351.221(c)(1)(i), we initiated an administrative review of the order on SSSS from China.³ On June 22, 2018, C.Y. Housewares timely withdrew its request for an administrative review.⁴

¹ See Antidumping or Countervailing Duty Order, Finding, or Suspended Investigation; Opportunity to Request Administrative Review, 83 FR 13949 (April 2, 2018).

² See C.Y. Houseware's letter, “Stainless Steel Sheet and Strip from the People's Republic of China: Request for Administrative Review,” dated April 30, 2018.

³ See Initiation of Antidumping and Countervailing Duty Administrative Reviews, 83 FR 26258 (June 6, 2018) (Initiation Notice).

⁴ See C.Y. Houseware's letter, “Stainless Steel Sheet and Strip from the People's Republic of China: Withdrawal of Request for Administrative Review,” dated June 22, 2018.

Rescission of Review

Pursuant to 19 CFR 351.213(d)(1), Commerce will rescind an administrative review, “in whole or in part, if a party that requested the review withdraws the request within 90 days of the date of publication of the notice of initiation of the requested review.” C.Y. Housewares withdrew its request within the 90-day time limit. Because we received no other requests for review of the order on SSSS from China, we are rescinding the administrative review of the order in full, in accordance with 19 CFR 351.213(d)(1).

Assessment

Commerce will instruct U.S. Customs and Border Protection (CBP) to assess countervailing duties on all appropriate entries of SSSS from China during the period of review at rates equal to the cash deposit rate of estimated countervailing duties required at the time of entry, or withdrawal from warehouse, for consumption, in accordance with 19 CFR 351.212(c)(1)(i). Commerce intends to issue appropriate instructions to CBP 15 days after publication of this notice in the Federal Register.

Notification to Importers

This notice also serves as a final reminder to importers of their responsibility under 19 CFR 351.402(f)(2) to file a certificate regarding the reimbursement of countervailing duties prior to liquidation of the relevant entries during this review period. Failure to comply with this requirement could result in Commerce's presumption that reimbursement of countervailing duties occurred and the subsequent assessment of doubled countervailing duties.

Notification Regarding Administrative Protective Orders

This notice also serves as a reminder to parties subject to the administrative protective order (APO) of their responsibility concerning the disposition of proprietary information disclosed under an APO in accordance with 19 CFR 351.305(a)(3). Timely written notification of the return or destruction of APO materials, or conversion to judicial protective order, is hereby requested. Failure to comply with the regulations and terms of an APO is a violation which is subject to sanction.

This notice is issued and published in accordance with sections 751(a)(1) and 777(i)(1) of the Act and 19 CFR 351.213(d)(4).

Dated: December 11, 2018
James Maeder
Associate Deputy Assistant Secretary for Antidumping and Countervailing Duty Operations performing the duties of Deputy Assistant Secretary for Antidumping and Countervailing Duty Operations.

[FR Doc. 2018-27241 Filed 12-14-18; 8:45 am]

BILLING CODE 3510-DS-P